DEPARTMENT OF ENERGY

Federal Energy Regulatory Commission

[Docket No. CP20-527-000]

Columbia Gulf Transmission, LLC; Notice of Schedule for the Preparation of an Environmental Assessment for the East Lateral Xpress Project

On September 24, 2020, Columbia Gulf Transmission, LLC (Columbia Gulf) filed an application in Docket No. CP20-527-000 requesting a Certificate of Public Convenience and Necessity pursuant to Section 7(c) of the Natural Gas Act to construct and operate certain natural gas pipeline facilities in Louisiana. The proposed project is known as the East Lateral XPress Project (Project), and would provide a total of 725 million standard cubic feet per day of firm transportation capacity, on Columbia Gulf's interstate natural gas pipeline system, to supply feed gas for Venture Global LNG's Plaquemines LNG facility in Plaquemines Parish, Louisiana.

On October 8, 2020, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020)

Schedule for Environmental Review

Issuance of EA March 16, 2021

90-day Federal Authorization Decision Deadline June 14, 2021

If a schedule change becomes necessary, additional notice will be provided so that the relevant agencies are kept informed of the Project's progress.

Project Description

The East Lateral XPress Project would consist of the following facilities:

• 8.1 miles of 30-inch-diameter pipeline lateral within Barataria Bay in Jefferson and Plaquemines Parishes, Louisiana;

• a new 23,470-horsepower compressor station at an existing Columbia Gulf abandoned compressor station site in St. Mary Parish, Louisiana (Centerville Compressor Station);

• a new 23,470-horsepower compressor station adjacent to an existing tie-in facility in Lafourche Parish, Louisiana (Golden Meadow Compressor Station);

• one new delivery meter station;

• one new tie-in facility in Barataria Bay; and

• two new mainline valves.

Background

On October 21, 2020, the Commission issued a Notice of Scoping Period Requesting Comments on Environmental Issues for the Proposed East Lateral XPress Project (Notice of Scoping). The Notice of Scoping was sent to affected landowners; federal, state, and local government agencies; elected officials; environmental and public interest groups; Native American tribes; other interested parties; and local libraries and newspapers. In response to the Notice of Scoping, the Commission received comments from the National Oceanic and Atmospheric Administration National Marine Fisheries Service, the U.S. Environmental Protection Agency, and the Teamsters National Pipeline Labor Management Cooperation Trust. The primary issues raised by the commenters are essential fish habitat; air quality; environmental justice populations; and tribal impacts. All substantive comments will be addressed in the EA.

Additional Information

In order to receive notification of the issuance of the EA and to keep track of all formal issuances and submittals in specific dockets, the Commission offers a free service called eSubscription. This service provides automatic notification of filings made to subscribed dockets, document summaries, and direct links to the documents. Go to https://www.ferc.gov/ferc-online/overview to register for eSubscription.

Additional information about the Project is available from the Commission's

Office of External Affairs at (866) 208-FERC or on the FERC website (www.ferc.gov). Using the eLibrary link, select General Search from the eLibrary menu, enter the selected date range and Docket Number (i.e., CP20-527), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 1, 2020.
Kimberly D. Bose,
Secretary.

[FR Doc. 2020-26825 Filed 12-4-20; 8:45 am]

BILLING CODE 6717-01-P